DEPARTMENT OF THE INTERIOR

National Park Service

[NPS-WASO-NAGPRA-NPS0037074; PPWOCRADN0-PCU00RP14.R50000]

Notice of Inventory Completion: Binghamton University, State University of New York, Binghamton, NY

AGENCY: National Park Service, Interior.

ACTION: Notice.

SUMMARY: In accordance with the Native American Graves Protection and Repatriation Act (NAGPRA), Binghamton University, State University of New York (SUNY Binghamton) has completed an inventory of human remains and has determined that there is a cultural affiliation between the human remains and Indian Tribes or Native Hawaiian organizations in this notice. The human remains were removed from Tioga County, NY.

DATES: Repatriation of the human remains in this notice may occur on or after January 18, 2024.

ADDRESSES: Laurie Miroff, Public Archaeology Facility, Binghamton University, P.O. Box 6000, Binghamton, NY 13902-6000, telephone (607) 777-4786, email lmiroff@binghamton.edu.

SUPPLEMENTARY INFORMATION: This notice is published as part of the National Park Service's administrative responsibilities under NAGPRA. The determinations in this notice are the sole responsibility of SUNY Binghamton. The National Park Service is not responsible for the determinations in this notice. Additional information on the determinations in this notice, including the results of consultation, can be found in the inventory or related records held by SUNY Binghamton.

Description

Human remains representing, at minimum, one individual were removed from the Engelbert Site, Tioga County, NY, and were recently discovered in the office of a retired faculty member at Binghamton University. The Engelbert site was excavated in 1967 and 1968 during salvage excavations that were part of gravel mining for construction of the Southern Tier Expressway (NY 17 now I-86). The new individual (Burial 96B, Feature 682) represents the partial remains of a young male, aged approximately 17 years old. Burial 96 was a double burial (96A and 96B). The human remains for 96A and the associated funerary objects for the entire burial were repatriated to the Onondaga Nation of the Haudenosaunee Confederacy in September 2009 (see 74 FR 28945-28946, June 18, 2009).

Cultural Affiliation

The human remains in this notice are connected to one or more identifiable earlier groups, tribes, peoples, or cultures. There is a relationship of shared group identity between the identifiable earlier groups, tribes, peoples, or cultures and one Indian Tribe. The following types of information were used to reasonably trace the relationship: oral history, geography, linguistics, material culture, and kinship.

Determinations

Pursuant to NAGPRA and its implementing regulations, and after consultation with the appropriate Indian Tribes and Native Hawaiian organizations, SUNY Binghamton has determined that:

• The human remains described in this notice represent the physical remains of one individual of Native American ancestry.

• There is a relationship of shared group identity that can be reasonably traced between the human remains described in this notice and the Onondaga Nation.

Requests for Repatriation

Written requests for repatriation of the human remains in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after January 18, 2024. If competing requests for repatriation are received, SUNY Binghamton must determine the most appropriate requestor prior to repatriation. Requests for joint repatriation of the human remains are considered a single request and not competing requests. SUNY Binghamton is responsible for sending a copy of this notice to the Indian Tribes and Native Hawaiian organizations identified in this notice.

Authority: Native American Graves Protection and Repatriation Act, 25 U.S.C. 3003, and the implementing regulations, 43 CFR 10.9, 10.10, and 10.14.

Dated: December 8, 2023.
Melanie O'Brien,
Manager, National NAGPRA Program.

[FR Doc. 2023-27787 Filed 12-18-23; 8:45 am]

BILLING CODE 4312-52-P